DEPARTMENT OF TRANSPORTATION

Federal Highway Administration

Participation in the Intelligent Transportation Infrastructure Program

AGENCY: Federal Highway Administration (FHWA), DOT.

ACTION: Notice; request for participation.

SUMMARY: The U.S. DOT ¹ is interested in working with State and local governments and an existing private sector partner to develop an ability to measure the operating performance of the roadway system at a regional and national level and to produce other valuable streams of information. The U.S. DOT is interested in assisting State and local transportation agencies to have access to real-time and archived performance data to assist in their planning, evaluation, and management activities. To achieve these objectives, the U.S. DOT is seeking applications from State and/or local transportation agencies interested in forming a public/private partnership, with a private partner preselected by the U.S. DOT, to participate in the Intelligent Transportation Infrastructure Program (ITIP).

¹ The FHWA is the implementing agency.

DATES: Applications to participate in the ITIP must be received by 4 p.m., e.t., July 31, 2001.

ADDRESSES: Applications to participate in the ITIP should be submitted directly to the Federal Highway Administration, Office of Travel Management, HOTM-1, Attention: Chung Eng, 400 Seventh St., SW., Room 3404, Washington, DC 20590. Applications may be submitted electronically to: chung.eng@fhwa.dot.gov.

FOR FURTHER INFORMATION CONTACT: Mr. Chung Eng, Office of Travel Management (HOTM-1), (202) 366-8043, or Mr. Wilbert Baccus, Chief Counsel Service Business Unit (HCC-40), (202) 366-0780, Department of Transportation, Federal Highway Administration, 400 Seventh St., SW., Washington, DC 20590. Office hours are from 7:45 a.m. to 4:15 p.m., e.t., Monday through Friday, except Federal holidays. The point of contact for the preselected private partner is as follows: Mr. John Collins, Traffic.com, Chesterbrook Corporate Center, 851 Duportail Road, Suite 220, Wayne, Pennsylvania, Telephone: (610) 407-3412.

SUPPLEMENTARY INFORMATION:

Background

The U.S. DOT is interested in developing an ability to measure the operating performance of the roadway system at a national level. The U.S. DOT is also interested in State and local transportation agencies having access to roadway system performance data to assist in their planning, evaluation, and management activities. The ITIP provides Federal funding for the integration of intelligent transportation infrastructure in major metropolitan areas with a population exceeding 300,000. The ITIP will enhance existing surveillance infrastructure through integration, along with strategic deployment of supplemental surveillance infrastructure.

In addition, the U.S. DOT is interested in facilitating public/private partnerships and the commercialization of traveler information data to create the opportunity for self-sustained systems that attract private capital. To be useful for the purposes described, roadway system performance data must be measured continuously, and be available in both real-time and archived formats. There is consensus within the transportation community that travel time and travel time reliability are among the best measures for these purposes. These and other desired measures are described in further detail within this solicitation.

The path to achieving these objectives presents an opportunity to serve public agency needs in true public/private partnerships. It is recognized that the same data that is useful to the public transportation agencies also has value for commercial traveler information applications. Thus, the potential exists for a public/private partnership that would collect system performance data to serve national and local needs and, at the same time, use the same data for commercial traveler information purposes.

Such a partnership was envisioned in section 5117(b)(3) of the Transportation Equity Act for the 21st Century (TEA-21), Pub. L. 105-178, as amended by title IX of Pub. L. 105-206, which requires the provision of private technology commercialization initiatives as part of a program to “advance the deployment of an operational intelligent transportation infrastructure system for the measurement of various transportation system activities to aid in the transportation planning and analysis while making a significant contribution to the ITS program.” To that end, the U.S. DOT has retained a private sector Consortium consisting of Traffic.com; Signal Corporation; Michael Baker Jr., Inc.; L.R. Kimball & Associates, Inc.; and PB Farradyne, Inc. to experiment with the collection and archiving of performance monitoring data that will ultimately be used to measure national system performance while also using this data for commercial traveler information purposes. The leader of this Consortium is Traffic.com, with the remaining members primarily playing support roles.

To date, the U.S. DOT and the Consortium have tested this public/private partnership in two (2) cities: Pittsburgh, PA and Philadelphia, PA. Briefly, the deployments in the two (2) initial cities feature the following:

• Over one hundred (100) sensors deployed in each city along freeways and other major arterials capable of providing data on volume, speed, lane occupation, and limited vehicle classification;

• Archived database function;

• Free web-based access to basic real-time as well as archived data for public agency stakeholders;

• Free web-based traffic condition information to the general public;

• Additional value-added commercial services on a fee basis;

• Firm, fixed price contract where the private partner owns, operates, and maintains the system;

• Integration of at least one legacy system (e.g. the Pennsylvania DOT's Traffic Operations Center in Pittsburgh);

• Private funding contribution toward infrastructure; and

• Sharing of gross revenues to support system enhancements.

This notice and request for participation extends the existing relationship with the Consortium, along with any necessary changes in support role members, to two (2) additional metropolitan areas. Lessons from the initial deployments as well as additional elements of national interest are reflected in this notice and request. This includes an increased emphasis on integrating existing data, and added requirements for calculating reliability performance measures using the data to be collected, and monthly submittal of performance measure reports to the U.S. DOT.

This expansion of the ITIP provides for the selection, under the current task order contract with the Consortium, of two (2) additional metropolitan areas to receive Federal grants of no more than $2 million each. The focus in these two (2) expansion metropolitan areas is to enhance existing surveillance infrastructure through integration, along with strategic deployment of supplemental surveillance infrastructure. The enhanced surveillance infrastructure and performance data generated will be used to: (1) Aid the public sector partner in carrying out system management activities including operations, planning, analysis, and maintenance; (2) support the provision of free basic traveler information to the public; (3) provide opportunities for commercialization of other Advanced Traveler Information Services (ATIS); and (4) support submittal of data and system performance measure reports to the U.S. DOT on a monthly basis.

Preference will be given to the top 78 metropolitan areas in support of the 1996 U.S. DOT ITS goal to deploy a complete Intelligent Transportation Infrastructure in these areas within the next decade. Preference will also be given to metropolitan areas that are currently experiencing significant congestion problems; and which already have substantial infrastructure in place such that much of the $2 million in Federal funds can be used to fill in data gaps, and to facilitate system integration and data management.

Objectives: This solicitation addresses the program provided for under section 5117(b)(3) of the TEA-21. The U.S. DOT is providing funding to:

• Accelerate the integration and enhancement of intelligent transportation infrastructure in major metropolitan areas to enable and help manage the continuous monitoring of the roadway system for purposes of providing real-time as well as archived data to aid in the operation, planning, analysis, and maintenance activities of the U.S. DOT and State and local agencies;

• Enhance the quality, availability, and accessibility of transportation system performance data to enable the calculation of mobility performance and system reliability measures while satisfying system operational needs at the same time;

• Provide to the U.S. DOT performance data and reports which, at a minimum, include data outlined in the Technical Plan description under Selection Criteria;

• Provide a traveler information service that includes free public access to basic traveler information, and supports provision of a 511 based telephone service; and

• Realize and publicize the benefits of regionally integrated and interoperable intelligent transportation infrastructure capable of supporting regional as well as national needs.

As stated in section 5117(b)(3) of TEA-21, additional program objectives include:

• Providing private technology commercialization initiatives to generate revenues which will be shared with the U.S. DOT;

• Collecting data primarily through wireless transmission along with some shared wide area networks;

• Aggregating data into reports for multipoint data distribution techniques; and

• Utilizing an advanced information system designed and monitored by an entity with experience with the U.S. DOT in the design and monitoring of high reliability, mission critical voice and data systems.

Funding: The U.S. DOT will select two (2) metropolitan areas to participate in this expansion of the ITIP. A total of $2 million in Federal funds per metropolitan area will be made available incrementally over the next two (2) calendar years to the metropolitan areas selected through this solicitation. The Federal funding will be made available to the selected partnerships through an existing contract involving the Consortium.

Federal funding for the ITIP shall be used to support:

1. Creation of a process and mechanism to collect, integrate, archive, manage, and report new and existing transportation data for mobility and performance monitoring, planning, evaluation, and other similar purposes;

2. Creation of a data repository of new and existing real-time traveler information for dissemination to the traveling public through a variety of delivery mechanisms, including support for a 511 based telephone service, provision of free basic traveler information to the public, and commercial traveler information services;

3. Creation of a regional transportation information system that integrates and supplements existing surveillance infrastructure to support public sector transportation management needs and private sector commercialization; and

4. Accommodation/integration of existing transportation data collection, archiving, and dissemination mechanisms.

There is a twenty percent (20%) matching share ($500,000) that must be from non-Federally derived funding sources, as statutorily required. For the purposes of this program, this matching share must consist of a cash contribution to the project. The non-Federally derived funding may come from State, local government, or private sector partners. Note that funding identified to support continued operations, maintenance, and management of the system will not be considered as part of the partnership's cost-share contribution.

In an ITS partnership, as with other U.S. DOT cost-sharing grants, it is inappropriate to include a fee in the proposed budget as part of a partner's contribution to the project. This does not prohibit appropriate fee payments to vendors or others that may provide goods or services to the partnership. It also does not prohibit business relationships with the private sector which result in revenues from the sale or provision of ITS products or services. The U.S. DOT regulations require grant income to be deducted from expenditures before billing. Given prior approval, grant income can be used either as match or cost share.

The U.S. DOT and the Comptroller General of the United States have the right to access all documents pertaining to the use of Federal ITS funds and non-Federal contributions. Non-Federal partners must maintain sufficient documentation to substantiate these costs. Such items as direct labor, fringe benefits, material costs, consultant costs, public involvement costs, subcontractor costs, and travel costs should be included in that documentation.

Program-Wide Evaluation of Benefits

The U.S. DOT may use its resources to conduct independent evaluations of the benefits resulting from the ITIP at the selected metropolitan areas. The decision to evaluate benefits at a specific metropolitan area will be made on a case-by-case basis, reflecting information needs at the U.S. DOT. The ITIP partners shall cooperate with the independent evaluators and participate in evaluation planning and progress review meetings to ensure a mutually acceptable, successful implementation of the independent evaluation.

Eligibility

To be eligible for participation in this limited expansion of the ITIP, applicants must establish a partnership with the Consortium that is currently under contract with the U.S. DOT to initiate this program in Pittsburgh and Philadelphia, Pennsylvania. Applicants must also be willing to work within the current contractual mechanism for the initial deployments. This will involve the following:

1. The FHWA has a contractual arrangement with the Consortium in the form of a work order under the U.S. DOT's Information Technology Omnibus Procurement (ITOP) program to develop and deploy systems in Pittsburgh and Philadelphia. Since this program expansion involves exercising an option within the current ITOP work order, the Federal funds provided will continue to be made available to the selected partnerships through this ITOP arrangement. This involves direct payment to the private partner of the Federal funds to be provided; and

2. The selected metropolitan areas/States are expected to negotiate their own agreements with the Consortium, henceforth referred to as the preselected private partner, to facilitate their financial contribution, and the work to be performed. The ITOP work order(s), including payment schedule, will be adjusted as necessary to reflect the agreements that have been individually negotiated between the selected metropolitan areas/States and the preselected private partner.

Information on U.S. DOT's ITOP program can be found at http://itop.dot.gov/itop/.

In addition, applications must:

1. Demonstrate that the population in the metropolitan area where the proposed deployment will occur currently exceeds 300,000;

2. Demonstrate that the metropolitan area where the proposed deployment will occur currently experiences significant vehicular traffic congestion based upon metrics acceptable in the transportation industry;

3. Demonstrate that the metropolitan area where the proposed deployment will occur has already made significant investments in ITS infrastructure;

4. Demonstrate that the metropolitan area where the proposed deployment will occur provides an environment supportive of commercialization of traffic data;

5. Demonstrate that the proposed deployment will achieve the objectives described in the “Objectives” section of this solicitation;

6. Demonstrate that sufficient funding is available to successfully complete all aspects of the proposed deployment while complying with the cost sharing and matching requirements described in the “Funding” section of this solicitation;

7. Commit to sharing existing surveillance data with the preselected private partner;

8. Provide access to rights-of-way for installation of additional surveillance infrastructure by the preselected private partner;

9. Contain a Technical Plan, a Management and Staffing Plan, and a Financial Plan; and

10. Demonstrate a commitment to a schedule whereby the proposed deployment will be operational within one year from the date of award.

Instructions to Applicants

An application to participate in the ITIP shall consist of a Technical Plan, a Management and Staffing Plan, and a Financial Plan. Together, these shall not exceed fifty (50) pages in length including title, index, tables, maps, appendices, abstracts, and other supporting materials. Copies of Memorandums of Understanding (MOUs), or other similar appropriate documents described below shall be attached to the application and shall not exceed fifteen (15) pages. A page is defined as one (1) side of an 8½ × 11 inch sheet of paper, with a type font no smaller than 12 point. Applications greater than fifty (50) pages will not be accepted.

Applications shall be submitted in an electronic format compatible with Microsoft Office 2000. The cover sheet or front page of the application shall include the name, address, and phone number of an individual to whom correspondence and questions about the application may be addressed. Any portion of the application or its contents that may contain proprietary information shall be clearly indicated; otherwise, the application and its contents shall be non-proprietary.

Selection Criteria

Applicants must submit acceptable Technical, Management and Staffing, and Financial Plans that together provide sound evidence that the proposed partnership can successfully meet the objectives of the ITIP.

The FHWA will assess applications submitted in response to this notice using the selection criteria set forth below, to determine: (1) the proposed project's potential for achieving and showcasing the benefits of using ITS technology for highway performance monitoring and management; (2) the proposed partnership's ability to complete the proposed infrastructure integration within one (1) year after award; (3) the proposed project's potential for fostering private commercialization initiatives, and (4) the responsiveness of the proposed technical, financial, and management approaches.

The following criteria will be used in selecting metropolitan areas for participation in the ITIP.

A. Partnership

The proposed partnership demonstrates a strong commitment to cooperation among agencies, jurisdictions, and the preselected private partner.

1. The application discusses proposed working relationships, cooperation, and information-sharing among participating public transportation agencies and the preselected private partner for the collection, management, and use of transportation system performance data, and the dissemination of travel information services, including support for a 511 telephone service.

2. The proposed partnership demonstrates a strong commitment to cooperation among agencies, jurisdictions, and the preselected private partner, on both long-range investment decisions and short-range operation and management issues. Documentation that clearly defines the responsibilities and relationships of all parties, including institutional relationships, revenue sharing, and other financial agreements needed to support the intelligent transportation infrastructure deployment, are attached.

3. The proposed partnership results in an arrangement where the public sector partners will be provided an ongoing data stream and the preselected private partner will be responsible for operating and maintaining the data gathering system implemented as part of this project under a fixed price contract.

B. Technical Plan

The Technical Plan must address the development, deployment, operation, and management of intelligent transportation infrastructure that: 1) enhances the quality, availability, and accessibility of both real-time and archived transportation system performance data for transportation operations, planning, analysis, and maintenance purposes; 2) supports monthly submittal of such data to the U.S. DOT; and 3) provides a traveler information service, including support for a 511 based telephone service as well as commercial value added services.

1. The Technical Plan must contain an operational concept and technical approach that demonstrates how the proposed deployment will operate when fully implemented, as well as during any incremental deployment steps leading to full implementation. The technical plan must define the operational roles and responsibilities of the partners during operations (and key operator functions), as well as the functions performed by the ITS infrastructure elements. The technical plan should describe the changes to existing systems and additional elements. Emphasis should be placed on operational aspects of the proposed deployment that will achieve the goal of improving the performance of the transportation system. The technical plan should address the opportunities for generating/supporting commercial products with the data.

2. The Technical Plan must contain a description of existing monitoring infrastructure and describe the monitoring and traffic data needs of the community; and the proposed approach for meeting local, as well as National needs.

3. The Technical Plan must contain a technical approach to submit all data aggregated as part of this project, including new and existing data, to the U.S. DOT on a monthly basis. At a minimum, the performance data are to include the elements outlined below in Table 1.

BILLING CODE 4910-22-P

BILLING CODE 4910-22-C

In addition, the technical approach must include quality assurance processes for both real-time and archived data. For real-time data, the data collected should be in accordance with the appropriate data quality levels specified in the document “Closing the Data Gap: Guidelines for Quality Advanced Traveler Information System (ATIS) Data, Version 1.0, September 2000.” ² For archived data, three (3) facets of quality control procedures must be addressed:

² The “Closing the Data Gap: Guidelines for Quality Advanced Traveler Information System (ATIS) Data, Version 1.0, September 2000,” can be obtained for review by contacting chung.eng@fhwa.dot.gov.

(1) Identification of faulty data;

(2) Editing procedures once faulty data is detected; and

(3) Treatment of missing values.

Any breakdown in the accepted quality assurance processes must be reported immediately. Additionally, any significant data gaps (one (1)-day or more) identified will be reported along with the monthly submission of data.

The Technical Plan must also contain a technical approach for using the data aggregated as part of this project to calculate the performance measures identified in the Table 2 below, and submitting a monthly report of these performance measures to the U.S. DOT.

The preselected private partner shall be responsible for submitting the above data and reports to the U.S. DOT. Data for each area shall be delivered on compact disk (CD-ROM) and made downloadable via the Internet monthly by the private sector partner, not more than four (4) weeks following the end of the month. Data shall be delivered in a granularity and format to be agreed upon prior to initiation of delivery. The standard Highway Performance Monitoring System (HPMS) ³ and Traffic Monitoring Guide ⁴ formats may be used where applicable. Definitions to be used shall be those contained in the Traffic Monitoring Guide, or the archived data standards (currently in development by ASTM), or the traffic management data dictionary (TMDD) standards, if available.

³ The Highway Performance Monitoring System (HPMS) field Manual is available for review at the URL: http://www.fhwa.dot.gov/ohim/hpmsmanl/hpms.htm.

⁴ The Traffic Monitoring Guide is available for review at the URL: http://www.fhwa.dot.gov/ohim/tvtw/tvtwpage.htm.

4. The Technical Plan must contain a technical approach that demonstrates how consistency with the Regional ITS Architecture (or with the National ITS Architecture where a Regional ITS Architecture does not yet exist) will be achieved; and how use of appropriate ITS standards will be considered, consistent with the Final Rule on ITS Architecture and Standards, 23 CFR Part 940, 66 FR 1446, January 8, 2001.

5. The Technical Plan must include an approach for developing the project based on a systems engineering analysis, consistent with the Final Rule on ITS Architecture and Standards, 23 CFR Part 940, 66 FR 1446, January 8, 2001.

6. The Technical Plan must address issues related to ownership and disposition of equipment deployed as part of this project; rights to data collected by infrastructure deployed as part of this project; and rights to reports generated from this data.

C. Management and Staffing Plan

The Management and Staffing Plan must demonstrate a well thought out estimate of the level of effort and skills needed to successfully complete the proposed deployment, along with the identification of which partners will supply the staff needed, including the names and qualifications of key staff. This plan must also describe the proposed lines of communication between the partners, and define the responsibilities of each partner.

1. The Management and Staffing Plan must demonstrate a sound management and organizational approach and schedule that will ensure that the proposed deployment is operational within one (1) year of the award of funds.

2. The Management and Staffing Plan must demonstrate a commitment to hire or assign a project manager and adequate full-time staff to ensure timely deployment of the project. Proposed staff should have demonstrated skills for effective operations and management, or the commitment to acquiring the necessary skills in relevant technical areas.

D. Financial Plan

The Financial Plan must demonstrate that sufficient funding is available to successfully complete all aspects of the proposed project as described in the Technical Plan.

1. The Financial Plan must include a clear identification of the proposed funding for the proposed deployment, and a commitment to provide a minimum twenty percent (20%) matching share that must be from non-Federally derived funding sources. All financial commitments from both the public and private partners, including any details of revenue sharing, must be documented.

2. The Financial Plan must include a sound financial approach to ensure the timely deployment and the continued long-term operation and management of the system without continued reliance on Federal funding. The Financial Plan must include documented evidence of continuing fiscal capacity and commitment.

3. The proposed project must include corresponding public and/or private investments that minimize the relative percentage and amount of Federal funds.

Authority: 23 U.S.C. 315; Sec. 5117(b)(3) of Public Law 105-178, as amended; 49 CFR 1.48.

Issued on: May 25, 2001.
Vincent F. Schimmoller,
Deputy Executive Director.

[FR Doc. 01-13791 Filed 5-29-01; 2:44 pm]

BILLING CODE 4910-22-P